DEPARTMENT OF STATE

Bureau of Consular Affairs

22 CFR Part 51

Passports

CFR Correction

In Title 22 of the Code of Federal Regulations, Parts 1 to 299, revised as of April 1, 2004, on page 259, § 51.27 is corrected by adding paragraphs (d)(1)(i)(A) through (D) and (d)(1)(ii) to read as follows:

§ 51.27 Minors.

* * * * *

(d) * * *

(1)(i) * * *

(A) Grants sole custody to the objecting parent; or,

(B) Establishes joint legal cutody; or,

(C) Prohibits the child's travel without the permission of both parents or the court; or,

(D) Requires the permission of both parents or the court for important decisions, unless permission is granted in writing as provided therein.

(ii) For passport issuance purposes, a court order providing for joint legal custody will be interpreted as requiring the permission of both parents. The Department will consider a court of competent jurisdiction to be a U.S. state court or a foreign court located in the child's home state or place of habitual residence. Notwithstanding the existence of any such court order, a passport may be issued when compelling humanitarian or emergency reasons relating to the welfare of the child exist.

* * * * *

[FR Doc. 04-55520 Filed 11-15-04; 8:45 am]

BILLING CODE 1505-01-D